DEPARTMENT OF THE INTERIOR

Fish and Wildlife Service

[Docket No. FWS-R9-IA-2011-0087; 96300-1671-0000 FY12 R4]

Conference of the Parties to the Convention on International Trade in Endangered Species of Wild Fauna and Flora (CITES); Sixteenth Regular Meeting; Provisional Agenda; Announcement of Public Meeting

AGENCY: Fish and Wildlife Service, Interior.

ACTION: Notice.

SUMMARY: The United States, as a Party to the Convention on International Trade in Endangered Species of Wild Fauna and Flora (CITES), will attend the sixteenth regular meeting of the Conference of the Parties to CITES (CoP16) in Bangkok, Thailand, during March 3 to15, 2013. Currently, the United States is developing its negotiating positions on proposed resolutions, decisions, and amendments to the CITES Appendices (species proposals), as well as other agenda items that have been submitted by other Party countries, the permanent CITES committees, and the CITES Secretariat for consideration at CoP16. With this notice we announce the provisional agenda for CoP16, solicit your comments on the items on the provisional agenda, and announce a public meeting to discuss the items on the provisional agenda.

DATES: Public meeting: The public meeting will be held on December 5, 2012, at 1:30 p.m. Comment submission: In developing the U.S. negotiating positions on proposed resolutions, decisions, and species proposals, and other agenda items submitted by other Party countries, the permanent CITES committees, and the CITES Secretariat for consideration at CoP16, we will consider written information and comments you submit if we receive them by January 8, 2013.

ADDRESSES:

Public Meeting

The public meeting will be held in the Sidney Yates Auditorium at the Main Interior Building at 18th and C Streets NW., Washington, DC. Directions to the building can be obtained by contacting the Division of Management Authority (see FOR FURTHER INFORMATION CONTACT). For more information about the meeting, see “Announcement of Public Meeting” under SUPPLEMENTARY INFORMATION.

Comment Submission

Comments should be submitted by one of the following methods:

• Federal eRulemaking Portal: http://www.regulations.gov. Follow the instructions for submitting comments on Docket No. FWS-R9-IA-2011-0087.

• U.S. mail or hand-delivery: Public Comments Processing, Attn: FWS-R9-IA-2011-0087; Division of Policy and Directives Management; U.S. Fish and Wildlife Service; 4401 N. Fairfax Drive, MS 2042-PDM; Arlington, VA 22203.

We will not consider comments sent by email or fax, or to an address not listed in the ADDRESSES section. Comments and materials we receive in response to this notice will be posted for public inspection on http://www.regulations.gov and will be available by appointment, between 8:00 a.m. and 4:00 p.m., Monday through Friday, except Federal holidays, at either the Division of Management Authority or the Division of Scientific Authority.

FOR FURTHER INFORMATION CONTACT: For information pertaining to resolutions, decisions, and agenda items, contact: Robert R. Gabel, Chief, Division of Management Authority; telephone 703-358-2095; facsimile 703-358-2298. For information pertaining to species proposals, contact: Rosemarie Gnam, Chief, Division of Scientific Authority; telephone 703-358-1708; fascsimile 703-358-2276.

SUPPLEMENTARY INFORMATION:

Background

The Convention on International Trade in Endangered Species of Wild Fauna and Flora, hereinafter referred to as CITES or the Convention, is an international treaty designed to control and regulate international trade in certain animal and plant species that are now or potentially may become threatened with extinction. These species are listed in Appendices to CITES, which are available on the CITES Secretariat's Web site at http://www.cites.org/eng/app/index.php. Currently, 176 countries, including the United States, are Parties to CITES. The Convention calls for regular biennial meetings of the Conference of the Parties, unless the Conference of the Parties decides otherwise. At these meetings, the Parties review the implementation of CITES, make provisions enabling the CITES Secretariat in Switzerland to carry out its functions, consider amendments to the lists of species in Appendices I and II, consider reports presented by the Secretariat and the permanent CITES committees (Standing, Animals, and Plants Committees), and make recommendations for the improved effectiveness of CITES. Any country that is a Party to CITES may propose amendments to Appendices I and II, resolutions, decisions, and agenda items for consideration by all the Parties at the meetings.

This is our fifth in a series of Federal Register notices that, together with an announced public meeting, provide you with an opportunity to participate in the development of the U.S. negotiating positions for the sixteenth regular meeting of the Conference of the Parties to CITES (CoP16). We published our first CoP16-related Federal Register notice on June 14, 2011 (76 FR 34746), in which we requested information and recommendations on species proposals for the United States to consider submitting for consideration at CoP16, and described our approach in determining which species proposals to consider submitting. We published our second such Federal Register notice on November 7, 2011 (76 FR 68778), in which we requested information and recommendations on proposed resolutions, decisions, and agenda items for the United States to consider submitting for consideration at CoP16, described our approach in determining which proposed resolutions, decisions, and agenda items to consider submitting, and provided preliminary information on how to request approved observer status for non-governmental organizations that wish to attend the meeting. In our third CoP16-related Federal Register notice, published on April 11, 2012 (77 FR 21798), we requested public comments and information on species proposals that the United States was considering submitting for consideration at CoP16; and in our fourth such notice, published on June 21, 2012 (77 FR 37433), we requested public comments and information on proposed resolutions, decisions, and agenda items that the United States was considering submitting for consideration at CoP16, and provided more information on how to request approved observer status for non-governmental organizations that wish to attend the meeting. A link to the complete list of those Federal Register notices, along with information on U.S. preparations for CoP16, can be found at http://www.fws.gov/international/cites/cop16/. You may obtain additional information on those Federal Register notices from the following sources: For information on proposed resolutions, decisions, and agenda items, contact the Division of Management Authority, U.S. Fish and Wildlife Service, 4401 N. Fairfax Drive, Room 212, Arlington, VA 22203; and for information on species proposals, contact the Division of Scientific Authority, U.S. Fish and Wildlife Service, 4401 N. Fairfax Drive, Room 110, Arlington, VA 22203. Our regulations governing this public process are found in 50 CFR 23.87.

On October 4, 2012, the United States submitted to the CITES Secretariat, for consideration at CoP16, its species proposals, proposed resolutions, proposed decisions, and other agenda items. These documents are available on our Web site at http://www.fws.gov/international/cites/cop16/.

Announcement of Provisional Agenda for CoP16

The provisional agenda for CoP16 is currently available on the CITES Secretariat's Web site at http://www.cites.org/eng/cop/16/doc/index.php. The working documents associated with the items on the provisional agenda, including proposed resolutions, proposed decisions, and discussion documents, are also available on the Secretariat's Web site. To view the working document associated with a particular agenda item, access the provisional agenda at the above Web site, locate the particular agenda item, and click on the document link for that agenda item in the column entitled “Document.” Finally, the species proposals that will be considered at CoP16 are available on the Secretariat's Web site. Proposals for amendment of Appendices I and II can be accessed at the web address given above. We look forward to receiving your comments on the items on the provisional agenda.

Announcement of Public Meeting

We will hold a public meeting to discuss with you the items on the provisional agenda for CoP16. The public meeting will be held on the date specified in the DATES section and at the address specified in the ADDRESSES section. You can obtain directions to the building by contacting the Division of Management Authority (see the FOR FURTHER INFORMATION CONTACT section above). Please note that the Sidney Yates Auditorium is accessible to the handicapped and all persons planning to attend the meeting will be required to present photo identification when entering the building. Persons who plan to attend the meeting and who require interpretation for the hearing impaired must notify the Division of Management Authority by November 21, 2012. For those who cannot attend the public meeting but are interested in watching via live stream please go to our Web site http://www.fws.gov/international/cites/cop16/, and look for the link to the live feed.

Future Actions

Through an additional notice and Web site posting in advance of CoP16, we will inform you about tentative U.S. negotiating positions on species proposals, proposed resolutions, proposed decisions, and agenda items that were submitted by other Party countries, the permanent CITES committees, and the CITES Secretariat for consideration at CoP16.

Author: The primary author of this notice is Mark Bellis, Division of Management Authority; under the authority of the U.S. Endangered Species Act of 1973, as amended (16 U.S.C. 1531 et seq.).

Dated: October 24, 2012.
Rowan W. Gould,
Director.

[FR Doc. 2012-27385 Filed 11-8-12; 8:45 am]

BILLING CODE 4310-55-P